NUCLEAR REGULATORY COMMISSION

[Docket No. 70-143]

Notice of Issuance of License Amendment 47 for Blended Low-Enriched Uranium Processing Facility for Nuclear Fuel Services, Inc., Erwin, TN

AGENCY: Nuclear Regulatory Commission.

ACTION: Notice of issuance of license amendment.

FOR FURTHER INFORMATION CONTACT: Michael Lamastra, Fuel Cycle Facilities Branch, Division of Fuel Cycle Safety and Safeguards, U.S. Nuclear Regulatory Commission, Washington, DC 20555-0001. Telephone: (301) 415-8139; fax number: (301) 415-5390; e-mail: mxl2@nrc.gov.

SUPPLEMENTARY INFORMATION:

I. Introduction

Pursuant to 10 CFR 2.106, the U.S. Nuclear Regulatory Commission (NRC) is providing notice of the issuance of Amendment 47 to Special Nuclear Material License SNM-124 to Nuclear Fuel Services, Inc. (NFS) authorizing the possession and use of special nuclear material in the Blended Low-Enriched Uranium (BLEU) Preparation Facility (BPF) at the licensee's site in Erwin, Tennessee. The NFS’ request for the proposed action was previously noticed in the Federal Register on January 7, 2003 (68 FR 796) along with a notice of opportunity to request a hearing.

This amendment complies with the standards and requirements of the Atomic Energy Act of 1954, as amended, and NRC's rules and regulations as set forth in 10 CFR chapter 1. Accordingly, this amendment was issued on January 13, 2004, and was effective immediately.

II. Further Information

The NRC has prepared a non-proprietary (public) version of the Safety Evaluation Report (SER) that documents the information that was reviewed and NRC's conclusion. In accordance with 10 CFR 2.790 of the NRC's “Rules of Practice,” details with respect to this action, including the non-proprietary version of the SER and accompanying documentation included in the license amendment package, are available for inspection at the NRC's Public Electronic Reading Room at http://www.nrc.gov/reading-rm/adams.html (ADAMS accession numbers ML040280502, ML040280209, ML040130574, and ML040130530). These documents may also be viewed electronically on the computers located at the NRC Public Document Room (PDR), O1F21 One White Flint North, 11555 Rockville Pike, Rockville, MD 20852. The PDR reproduction contractor will copy documents for a fee. Persons who do not have access to ADAMS should contact the NRC PDR Reference Staff by telephone at 1-800-397-4209 or (301) 415-4737, or by e-mail at pdr@nrc.gov.

Dated at Rockville, Maryland, this 4th day of January, 2004.
For the Nuclear Regulatory Commission.
Michael Lamastra,
Project Manager, Fuel Manufacturing Section, Fuel Cycle Facilities Branch, Division of Fuel Cycle Safety and Safeguards, Office of Nuclear Material Safety and Safeguards.

[FR Doc. 04-2933 Filed 2-10-04; 8:45 am]

BILLING CODE 7590-01-P